DEPARTMENT OF COMMERCE

International Trade Administration

A-580-815, A-580-816

Certain Cold-Rolled and Corrosion-Resistant Carbon Steel Flat Products From the Republic of Korea: Amended Final Results of Antidumping Duty Administrative Reviews in Accordance with Court Decision

AGENCY: Import Administration, International Trade Administration, U.S. Department of Commerce.

ACTION: Notice of Amended Final Results of Antidumping Duty Administrative Reviews in Accordance with Final Court Decision.

SUMMARY: On August 30, 2001, the United States Court of International Trade (“CIT”) sustained the final remand determination of the 1994-95 administrative reviews for Dongbu Steel Co., Ltd. (“Dongbu”), Pohang Iron and Steel Co., Ltd., (“POSCO”), and Union Steel Manufacturing Co., Ltd. (“Union”) by the Department of Commerce (“the Department”) arising from the antidumping duty orders on Certain Cold-Rolled and Corrosion-Resistant Carbon Steel Flat Products From the Republic of Korea. See AK Steel Corporation et al v. United States, et al, Consol. Ct. No. 97-05-00875, Slip Op. 01-113 (Ct. Int'l Trade August 30, 2001). As there is now a final and conclusive court decision in this case, we are amending the final results of review in these matters. We will instruct the U.S. Customs Service to liquidate entries subject to these amended final results.

EFFECTIVE DATE: June 11, 2002.

FOR FURTHER INFORMATION CONTACT: Marlene Hewitt, Antidumping/Countervailing Duty Enforcement, Import Administration, International Trade Administration, U.S. Department of Commerce, 14th Street and Constitution Avenue, N.W.,Washington DC 20230; telephone (202) 482-1385.

SUPPLEMENTARY INFORMATION:

Background

On August 19, 1993 the Department issued antidumping duty orders on Certain Cold-Rolled and Corrosion-Resistant Carbon Steel Flat Products From the Republic of Korea. See Antidumping Duty Order: Certain Cold-Rolled and Corrosion-Resistant Carbon Steel Flat Products From the Republic of Korea, 58 FR 44159 (August 19, 1993). On April 15, 1997, the Department published its final results of the 1994-1995 administrative reviews (second reviews) of Certain Cold-Rolled and Corrosion-Resistant Carbon Steel Flat Products from the Republic of Korea for three Korean manufacturers/exporters/producers: Dongbu, POSCO, and Union. See Certain Cold-Rolled and Corrosion-Resistant Carbon Steel Flat Products From the Republic of Korea; Final Results of Antidumping Administrative Review, 62 FR 18404 (April 15, 1997) (“Final Results”).

AK Steel Corporation, Inland Steel Industries Inc., Bethlehem Steel Corporation, U.S. Steel Corporation A Unit of USX Corporation, LTV Steel Co., Inc., National Steel Corporation, (collectively “AK Steel” or “Petitioners”) challenged certain aspects of the Department's Final Results at the CIT.

On November 23, 1998, the CIT affirmed the Department's Final Results on the following issues: (1) application of the Department's three-part “PQ Test” in determining Dongbu, POSCO and Union's classification of sales as export price (“EP”) or constructed export price (“CEP”) sales; (2) the determination to collapse the POSCO Group and not apply the “fair value” and “major input” provisions to the collapsed entities; (3) the determination that POSCO is not affiliated with Union and Dongbu; (4) the calculation of Dongbu's and Union's movement expenses; (5) the determination to accept POSCO's cost reconciliation explanation as reasonable; and (6) the calculation of Dongbu's warehousing expenses. See AK Steel Corporation et al v. United States et al, Consol. Ct. No. 97-05-00865, Slip Op. 98-159 (Ct. Int'l Trade November 23, 1998).

Petitioners appealed the CIT decision to the United States Court of Appeals for the Federal Circuit (“CAFC”). The CAFC held that (1) CEP rather than EP methodology was applicable and (2) having “collapsed” three affiliated foreign producers into a single entity for purposes of levying a single anti-dumping duty rate, it was permissible for the Department not to apply the fair value and major-input provisions to underlying transactions between those companies. Accordingly, the CAFC affirmed-in-part, reversed-in-part and remanded. See AK Steel Corporation et al v. United States et al, 203 F.3d 1330 (Fed. Cir 2000).

The Korean producers then filed at the CAFC a petition for rehearing and suggestion for rehearing en banc. The CAFC took the case on reconsideration for the limited purpose of addressing certain statutory arguments that had not been raised during briefing or at oral argument. On September 12, 2000, the CAFC issued a new opinion and ordered that its previous opinion be withdrawn. See AK Steel Corporation et al v. United States, et al, 226 F. 3d 1361 (Fed. Cir. 2000). However, the outcome of the case remained essentially unchanged. In its new opinion, the CAFC again held that the CEP rather than EP methodology was applicable to respondents' sales and affirmed the CIT's decision that the Department was correct in not applying the fair value and major input provisions to the collapsed entities. The CAFC again remanded the final determination for the Department to reconsider whether the respondents' sales were properly considered EP sales. In its opinion, the CAFC specifically invalidated the Department's long-standing “PQ Test,” holding that “where a contract for sale was between a U.S. affiliate of a foreign producer or exporter and an unaffiliated U.S. purchaser, then the sale must be classified as a CEP sale.” The CAFC concluded that the judgment of the CIT is, accordingly, affirmed-in-part, reversed-in-part and remanded. See AK Steel Corporation et al v. United States, et al 226 F.3d 1361, at 1374, (Fed. Cir. 2000). The other issues were not appealed to the CAFC.

On January 2, 2001, the CIT, consistent with the CAFC's ruling, remanded the Final Results to the Department to calculate U.S. price based on CEP for all respondents (i.e., Dongbu, POSCO, and Union). See Court Remand Order in AK Steel Corporation et al v. United States, et al, Consol. Ct. No. 97-05-00865, (Ct. Int'l Trade January 2, 2001).

On May 24, 2001, the Department filed its redetermination pursuant to court remand. The Department applied the test articulated by the CAFC and the corresponding CIT remand instructions. See AK Steel Corporation et al v. United States, et al, 226 F. 3d 1361 (Fed. Cir.2000) and remand order, Consol. Court No. 97-05-00865, ( Ct. Int'l Trade January 2, 2001).

On June 21, 2001, the CIT remanded the redetermination to the Department to correct certain errors, in its redetermination, in calculating the margins for Dongbu and Union. See Court Remand Order in AK Steel Corporation et al v. United States, et al, Consol. Ct. No. 97-05-00865, ( Ct. Int'l Trade June 21, 2001).

On August 6, 2001, the Department re-issued its redetermination pursuant to the court remand of June 21, 2001, after correcting errors in the margins for Dongbu, and Union.

On August 30, 2001, the CIT sustained the Department's redetermination on remand. See AK Steel Corporation et al v. United States, et al, Consol. Ct. No. 97-05-00865, Slip Op. 01-113 (Ct. Int'l Trade August 30, 2001).

Amendment to Final Results

As the time period for appealing the CIT's decision sustaining the Department's redetermination has expired and no party has appealed this decision, litigation in this case is now final and conclusive for Dongbu, POSCO, and Union. Pursuant to Section 516 A(c) of the Act, we are therefore amending our final results of review for the period August 1, 1994 through July 31, 1995, to reflect the findings in the redetermination.

The revised weighted-average margins for the above companies are as follows:

Cold-Rolled Products:
Manufacturer/Exporter | Margin (percent)
Dongbu | 0.22
POSCO | 0.48
Union | 0.78

Corrosion-Resistant Products:
Manufacturer/Exporter | Margin (percent)
Dongbu | 0.04
POSCO | 0.09
Union | 1.41

Accordingly, the Department will determine, and the U.S. Customs Service (“Customs”) will assess, antidumping duties on all appropriate entries of subject merchandise in accordance with these amended final results. For assessment purposes, we have calculated importer-specific duty assessment rates for each class or kind of merchandise. The Department will issue appraisement instructions directly to Customs. The above amended rates will not affect Dongbu, POSCO, and Union's cash deposit rates currently in effect, which continue to be based on the margins found to exist in the most recently completed review.

This notice is published in accordance with sections 751(a)(1) and 777(i) of the Tariff Act (19 U.S.C. 1675(a)(1) and 1677f(i)) and 19 C.F.R. 351.221.

Dated: June 5, 2002
Joseph A. Spetrini,
Acting Assistant Secretary for Import Administration.

[FR Doc. 02-14662 Filed 6-10-02; 8:45 am]

BILLING CODE 3510-DS-S